ENVIRONMENTAL PROTECTION AGENCY

40 CFR Part 271

[EPA-R10-RCRA-2017-0285; FRL-9966-74-Region 10]

Washington: Proposed Authorization of State Hazardous Waste Management Program Revisions

AGENCY: Environmental Protection Agency (EPA).

ACTION: Proposed rule; reopening of the comment period.

SUMMARY: The Environmental Protection Agency (EPA) is reopening the comment period for a proposed rulemaking to authorize a revision to the State of Washington's federally authorized hazardous waste management program pursuant to the Resource Conservation and Recovery Act (RCRA), as amended. The EPA has reviewed Washington's application, and we have determined that these changes satisfy all requirements needed to qualify for final authorization and are proposing to authorize the State's changes. EPA is reopening the public comment period until October 25, 2017.

DATES: This comment period is for the proposed rule published on July 13, 2017 (82 FR 32305). All comments received on or before October 25, 2017 will be entered into the public record and considered by the EPA before final action is taken on this proposed rule.

ADDRESSES: Submit your comments, identified by Docket ID No. EPA-R10-RCRA-2017-0285, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Barbara McCullough, U.S. Environmental Protection Agency, Region 10, Office of Air and Waste (OAW-150), 1200 Sixth Avenue, Suite 900, Seattle, Washington 98101, phone number: (206) 553-2416, email: mccullough.barbara@epa.gov or from the Washington State Department of Ecology, 300 Desmond Drive, Lacey, Washington 98503, contact: Robert Rieck, phone number: (360) 407-6751, email: rori461@ecy.wa.gov.

Dated: August 21, 2017.
Michelle Pirzadeh,
Acting Regional Administrator, Region 10.

[FR Doc. 2017-20314 Filed 9-22-17; 8:45 am]

BILLING CODE 6560-50-P